DEPARTMENT OF THE INTERIOR

Bureau of Land Management

[WY-070-07-1610-DU]

Notice of Intent (NOI) To Amend the Resource Management Plan for the Buffalo Field Office, Wyoming

AGENCY: Bureau of Land Management, Interior.

ACTION: Notice of intent.

SUMMARY: In accordance with the National Environmental Policy Act of 1969 (NEPA) and the Federal Land Policy and Management Act of 1976 (FLPMA), the Bureau of Land Management (BLM) Buffalo Field Office, Wyoming, proposes to amend its 1985 Resource Management Plan (RMP) because of changes in circumstances and proposed actions that may result in changes in the scope of resource uses and/or changes in decisions of the approved plan. The BLM will evaluate the following: (1) Management guidance for the Fortification Creek area, (2) Designation of an Area of Critical Environmental Concern (ACEC) in the Fortification Creek area, and (3) a potential land exchange with the State of Wyoming to consolidate ownership and facilitate management of the Fortification Creek area. The BLM may consider further land use planning decisions for the area surrounding the proposed ACEC.

DATES: Scoping for the proposed plan amendment will commence on the date that this notice is published in the Federal Register. The BLM will host several public, open house meetings to provide additional information about the proposed amendment, and identify any additional resource information or concerns. The BLM will announce the dates and locations of public meetings at least 15 days in advance through local news media, Web site announcements, or mailings. Written comments will be accepted for 30 calendar days after the last public meeting.

ADDRESSES: Written comments should be submitted to the BLM through any of the following methods:

• Web site: http://www.blm.gov/wy/st/en/info/NEPA/bfodocs/fortification_creek.html;

• E-mail: Fort_Crk_WYMail@blm.gov;

• Fax: (307) 684-1122;

• Mail: Fortification Creek RMP Amendment, BLM Buffalo Field Office, 1425 Fort Street, Buffalo, WY 82834; or

• By personal delivery to the Buffalo Field Office or at a BLM-hosted public meeting.

FOR FURTHER INFORMATION CONTACT: Thomas Bills, Project Manager, BLM Buffalo Field Office, 1425 Fort Street, Buffalo, Wyoming 82834, or by telephone at (307) 684-1133.

SUPPLEMENTARY INFORMATION: The Buffalo RMP and associated Environmental Impact Statement (EIS) were prepared in 1985; the RMP was amended in 2003. The 1985 RMP identified an area of approximately 12,415 acres as having wilderness characteristics and established it as the Fortification Creek (Fort Creek) Wilderness Study Area (WSA). The 1985 RMP also evaluated an area adjacent to the Fort Creek WSA to determine whether it met ACEC relevance and importance criteria, but it did not designate the area as an ACEC in its Record of Decision (ROD). In addition, the 1985 RMP stated that the area surrounding the WSA would require special management. However, it did not specify what resource values were in need of special management, nor did it clearly describe limitations or use restrictions that might be needed to manage those resource values. This RMP amendment process will evaluate resources and issues related to the planning criteria, including the designation of an area surrounding the Fort Creek WSA as an ACEC and the appropriate management actions and use restrictions for the ACEC, if designated. The Fort Creek area is located in Campbell, Johnson, and Sheridan Counties, Wyoming.

The purpose of the scoping process is to determine relevant issues that will influence the scope of the environmental analysis and alternatives. Scoping comments will also guide the planning process. The BLM will prepare an associated NEPA document, either an Environmental Assessment (EA) or an Environmental Impact Statement (EIS), based on scoping comments and issues.

The BLM has identified the following preliminary issues:

• Management of the Fort Creek Area. Should the BLM recommend the area, or a portion of the area, as an ACEC, or should it establish a management area (MA) with specific goals and objectives?

• Resource Values and Limitations. If the BLM concludes that some or all of the Fort Creek planning area merit establishment of an ACEC, what resource values and what measures would be appropriate to manage the area and its resources?

If the BLM decides that the Fort Creek planning area does not merit ACEC status, the BLM will determine what resources should be evaluated for activities and use limitations within the area:

1. Uses. Appropriate use and occupancy of the public lands in the Fort Creek area for energy resources.

2. Management Activities. Continue management activities for resource values currently identified in the RMP, or generate new goals and objectives and use limitations for the protection of steep slopes, erosive soils, elk habitat, cultural resources and visual resources.

3. Landownership Adjustments. Identify opportunities, if any, to exchange lands with other landowners including the State of Wyoming for the purpose of consolidating public lands and maintaining continuous wildlife habitat.

The preliminary land use planning criteria are:

1. The amendment will be in compliance with FLPMA and applicable laws, regulations, and policies. The land use plan amendment process will be governed by the planning regulations at 43 CFR 1610 and BLM Land Use Planning Handbook H-1601-1.

2. The proposed action and alternatives will be analyzed in accordance with NEPA.

3. Lands affected by the proposed plan amendment include public surface and mineral estate managed by the BLM. No decisions will be made relative to non-BLM administered lands or non-federal minerals.

4. Broad-based public participation will be an integral part of the planning process.

5. The plan amendment will recognize all valid existing rights.

6. The BLM will work with cooperating agencies and all other interested groups, agencies, and individuals. The amended RMP will be consistent with existing non-Federal plans and policies, provided the decisions in the existing plans are consistent with the purposes, policies, and programs of Federal law and regulations for public lands.

7. The WSA will continue to be managed under the BLM's Interim Management Policy for Lands under Wilderness Review until Congress either designates all or portions of the WSA as wilderness or releases the lands from further wilderness consideration.

8. The planning process will involve consultation with American Indian tribal governments to provide strategies for the protection of recognized traditional uses.

9. The RMP amendment may include adaptive environmental management (AEM) principles and protocol to deal with future issues and outcomes.

All comment submittals must include the commenter's name and street address. Comments, including the names and street addresses of respondent, will be available for public review at the Buffalo Field Office listed above during its business hours (7:45 a.m. to 4:30 p.m.), Monday through Friday, except for Federal holidays. Before including your address, phone number, e-mail address, or other personal identifying information in your comment, you should be aware that your entire comment—including your personal identifying information—may be made publicly available at any time. While you may ask us in your comment to withhold your personal identifying information from public review, we cannot guarantee that we will be able to do so.

Alan Rabinoff,
Acting State Director.

[FR Doc. E7-16332 Filed 8-17-07; 8:45 am]

BILLING CODE 4310-22-P